DEPARTMENT OF ENERGY

Federal Energy Regulatory Commission

Combined Notice of Filings

Take notice that the Commission has received the following Natural Gas Pipeline Rate and Refund Report filings:

Filings Instituting Proceedings

Docket Numbers: RP11-1591-000.

Applicants: Golden Pass Pipeline LLC.

Description: Report Filing: 2017 Annual Report of Penalty Revenues and Costs of Golden Pass Pipeline.

Filed Date: 11/14/17.

Accession Number: 20171114-5058.

Comments Due: 5 p.m. ET 11/27/17.

Docket Numbers: RP17-1052-000.

Applicants: Trailblazer Pipeline Company LLC.

Description: Report Filing: Fuel Refund Report in Docket No. RP17-1052.

Filed Date: 11/14/17.

Accession Number: 20171114-5096.

Comments Due: 5 p.m. ET 11/27/17.

Docket Numbers: RP18-158-000.

Applicants: Iroquois Gas Transmission System, L.P.

Description: § 4(d) Rate Filing: 111417 Negotiated Rates—St. Lawrence Gas Company, Inc. R-1640-23 to be effective 12/1/2017.

Filed Date: 11/14/17.

Accession Number: 20171114-5030.

Comments Due: 5 p.m. ET 11/27/17.

Docket Numbers: RP18-159-000.

Applicants: Southern Star Central Gas Pipeline, Inc.

Description: Compliance filing Annual Operational Flow Order Report 2017.

Filed Date: 11/14/17.

Accession Number: 20171114-5057.

Comments Due: 5 p.m. ET 11/27/17.

Docket Numbers: RP18-160-000.

Applicants: Southern Natural Gas Company, L.L.C.

Description: Compliance filing Annual Report on Operational Transactions 2017.

Filed Date: 11/15/17.

Accession Number: 20171115-5026.

Comments Due: 5 p.m. ET 11/27/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2017.
Nathaniel J. Davis, Sr.,
Deputy Secretary.

[FR Doc. 2017-25587 Filed 11-27-17; 8:45 am]

BILLING CODE 6717-01-P